AFRICAN DEVELOPMENT FOUNDATION

Board of Directors Meeting; Sunshine Act

TIME: 10 am-2:30 pm

PLACE: ADF Headquarters.

DATE: Tuesday, December 4, 2001.

STATUS: Open.

Agenda

10 am-10:30am—Chairman's Report

10:30 am-12 pm—President's Report

12 pm-1 pm—Lunch

1 pm-2:30pm—Executive Session (Closed)

2:30 pm—Adjournment

If you have any questions or comments, please direct them to Doris Martin, General Counsel, who can be reached at (202) 673-3916.

Nathaniel Fields,
President.

[FR Doc. 01-28580 Filed 11-9-01; 10:41 am]

BILLING CODE 6117-01-P